DEPARTMENT OF HEALTH AND HUMAN SERVICES

Centers for Medicare & Medicaid Services

[Document Identifier: CMS-10434 #82]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by August 13, 2024.

ADDRESSES: When commenting, please reference the applicable form number (CMS-10434 #82) and the OMB control number (0938-1188). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-10434 #82/OMB control number: 0938-1188, Room C4-26-05, 7500 Security Boulevard, Baltimore, Maryland 21244-1850.

To obtain copies of a supporting statement and any related forms for the proposed collection(s) summarized in this notice, please access the CMS PRA website by copying and pasting the following web address into your web browser: https://www.cms.gov/medicare/regulations-guidance/legislation/paperwork-reduction-act-1995/pra-listing.

FOR FURTHER INFORMATION CONTACT: William N. Parham at 410-786-4669.

SUPPLEMENTARY INFORMATION: Because of system limitations, we are submitting this generic collection of information request on an interim basis under CMS-10434 (OMB 0938-1188). At the appropriate time we will move this request under its proper place (CMS-10398, OMB 0938-1148) and subsequently remove it from CMS-10434 to prevent duplication. The public can monitor the status of such activities at reginfo.gov.

Following is a summary of the use and burden associated with the subject information collection(s). More detailed information can be found in the collection's supporting statement and associated materials (see ADDRESSES).

Generic Information Collection

1. Title of Information Collection: Quality Improvement Affinity Group Expression of Interest Form; Type of Information Collection Request: New information collection request information request; Use: The new CMCS Quality Improvement Affinity Group Expression of Interest (EOI) Form will replace the following topic-specific EOI forms: CMS-10398 #72 for Infant Well-Care and CMS-10398 #76 for Maternal Health. Both will be discontinued sometime after the new form is approved by OMB. We host multiple affinity groups with overlapping time frames, with health topics changing to meet state interest and needs as well as to address emerging health disparities as new health data becomes available. In this iteration, we intend for a more general EOI form that will not change with new affinity groups; it will remain the same no matter the subject matter therefore burden will not change. The general form will allow state participants to list multiple Affinity Groups they may be interested in, as well as provide state participants with a more reliable, streamlined, and consistent process for participation going forward. Form Number: CMS-10434 #82 (OMB control number: 0938-1188); Frequency: Once; Affected Public: State, Local, or Tribal Governments; Number of Respondents: 20; Total Annual Responses: 20; Total Annual Hours: 60. (For policy questions regarding this collection contact: Sarah Leetham at 720-853-2612.)

William N. Parham, III,
Director, Division of Information Collections and Regulatory Impacts, Office of Strategic Operations and Regulatory Affairs.

[FR Doc. 2024-16735 Filed 7-29-24; 8:45 am]

BILLING CODE 4120-01-P